DEPARTMENT OF THE INTERIOR

Bureau of Land Management

[MT-926-06-1420-BJ-TRST]

Montana: Filing of Plat of Survey

AGENCY: Bureau of Land Management, Montana State Office, Interior.

ACTION: Notice of Filing of Plat of Survey.

SUMMARY: The Bureau of Land Management (BLM) will file the plats of survey of the lands described below in the BLM Montana State Office, Billings, Montana, (30) days from the date of publication in the Federal Register.

FOR FURTHER INFORMATION CONTACT: Marvin Montoya, Cadastral Surveyor, Branch of Cadastral Survey, Bureau of Land Management, 5001 Southgate Drive, Billings, Montana 59101-4469, telephone (406) 896-5124 or (406) 896-5009.

SUPPLEMENTARY INFORMATION: This survey was executed at the request of the Rocky Mountain Regional Director, Bureau of Indian Affairs and was necessary to determine Trust and Tribal land.

The lands we surveyed are:

Principal Meridian

Montana

T. 27 N., R. 50 E.

The plat, in one sheet, representing the dependent resurvey of a portion of the 12th Guide Meridian East, through Township 27 North, a portion of the subdivisional lines, the adjusted original meanders of the left bank of the Missouri River, downstream, through sections 24, 25, and 26, the subdivision of sections 24 and 25, certain division of accretion lines, and subdivision of sections 24 and 25, and the survey of the meanders of the present left bank of the Missouri River, downstream, through sections 24, 25, and 26, and certain division of accretion lines, in Township 27 North, Range 50 East, Principal Meridian, Montana, was accepted December 23, 2005.

T. 27 N., R. 51 E.

The plat, in one sheet, representing the dependent resurvey of a portion of the 12th Guide Meridian East, through Township 27 North, a portion of the subdivisional lines, the adjusted original meanders of the left bank of the Missouri River, downstream, through sections 18 and 19, the subdivision of sections 18 and 19, and the subdivision of section 18, and the survey of the meanders of the present left bank of the Missouri River, downstream, through sections 18 and 19, the limits of erosion, downstream through section 18, the meanders of the left bank and medial line of a relicted channel of the Missouri River, downstream, through section 18, certain division of accretion lines, a certain partition line, and Tract 37, Township 27 North, Range 51 East, Principal Meridian, Montana, was accepted December 23, 2005.

We will place a copy of the plats, in two sheets, and related field notes we described in the open files. They will be available to the public as a matter of information.

If BLM receives a protest against these surveys, as shown on these plats, in two sheets, prior to the date of the official filing, we will stay the filing pending our consideration of the protest.

We will not officially file these plats, in two sheets, until the day after we have accepted or dismissed all protests and they have become final, including decisions or appeals.

Dated: January 11, 2006.
Thomas M. Deiling,
Chief Cadastral Surveyor, Division of Resources.

[FR Doc. E6-475 Filed 1-18-06; 8:45 am]

BILLING CODE 4310-$$-P